DEPARTMENT OF THE TREASURY

United States Mint

Notification of Citizens Coinage Advisory Committee September 22-23, 2020, Public Meeting

ACTION: Notice of meeting

Pursuant to United States Code, Title 31, section 5135(b)(8)(C), the United States Mint announces the Citizens Coinage Advisory Committee (CCAC) teleconference public meeting scheduled for September 22, 2020 and September 23, 2020.

Date: September 22, 2020 and September 23, 2020.

Time: 11:00 a.m. to 12:30 p.m. (September 22, 2020) and 9:00 a.m. to 4:30 p.m. (September 23, 2020).

Location: This meeting will occur via teleconference. Interested members of the public may dial in to listen to the meeting at (888) 330-1716, using Access Code 1137147.

Subject: Review and discussion of obverse and reverse candidate designs for the U.S. Army Silver Medal, the National Law Enforcement Memorial Commemorative Coins, three of the five Hidden Figures Congressional Gold Medals, and the David J. Ryder United States Mint Director Medal.

Interested persons should call the CCAC HOTLINE at (202) 354-7502 for the latest update on meeting time and location.

The CCAC advises the Secretary of the Treasury (Secretary) on any theme or design proposals relating to circulating coinage, bullion coinage, Congressional Gold Medals, and national and other medals; advises the Secretary with regard to the events, persons, or places to be commemorated by the issuance of commemorative coins in each of the five calendar years succeeding the year in which a commemorative coin designation is made; and makes recommendations with respect to the mintage level for any commemorative coin recommended.

For members of the public interested in listening in to the provided call number, this is a reminder that the public attendance is for listening purposes only. Any member of the public interested in submitting matters for the CCAC's consideration is invited to submit them by email to info@ccac.gov.

FOR FURTHER INFORMATION CONTACT: Jennifer Warren, United States Mint Liaison to the CCAC; 801 9th Street NW; Washington, DC 20220; or call 202-354-7208.

(Authority: 31 U.S.C. 5135(b)(8)(C))

Eric Anderson,
Executive Secretary, United States Mint.

[FR Doc. 2020-18447 Filed 8-21-20; 8:45 am]

BILLING CODE P